DEPARTMENT OF LABOR

Office of the Secretary

Submission for OMB Review; Comment Request

May 25, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of response.

Type of Review: Extension of a currently approved collection.

Agency: Employment and Training Administration.

Title: Petition for Adjustment Assistance/Solicitud De Asistencia Para Ajuste.

OMB Number: 1205-0192.

Affected Public: Individuals or households; business or other for-profit.

Frequency: On occasion.

Number of Respondents: 1,400.

Total Annual Responses: 1,400.

Estimated Time Per Respondent: 15 Minutes.

Total Burden: 350 Hours.

Total Annualized capital/startup costs: $0.

Total annual costs (operating/maintaining systems or purchasing services): $0.

Description: The petitions are used by American workers applying to the U.S. Department of Labor for eligibility to receive worker Trade Adjustment Assistance in accordance with provisions of the Trade Act of 1974, as amended. The petition initiates action of part of the Department of Labor to determine if the workers are eligible.

Ira L. Mills,
Departmental Clearance Officer.

[FR Doc. 00-14147 Filed 6-5-00; 8:45 am]

BILLING CODE 4510-30-M